NUCLEAR REGULATORY COMMISSION

[NRC-2011-0006]

Sunshine Act Meeting

AGENCY HOLDING THE MEETINGS: Nuclear Regulatory Commission.

DATES: Week of September 26, 2011.

PLACE: Commissioners' Conference Room, 11555 Rockville Pike, Rockville, Maryland.

STATUS: Public and Closed.

Additional Items To Be Considered

Week of September 26, 2011

Tuesday, September 27, 2011

8:55 a.m. Affirmation Session (Public Meeting) (Tentative)

a. Southern Nuclear Operating Co. (Vogtle Electric Generating Plant, Units 3 and 4)—Appeal of LBP-10-21 (Tentative)

b. Luminant Generation Company LLC (Comanche Peak Nuclear Power Plant, Units 3 and 4), Intervenors' Petition for Review Pursuant to 10 C.F.R. § 2.341 (Mar. 11, 2011) (Tentative)

c. Progress Energy Florida, Inc. (Levy County Nuclear Power Plant, Units 1 and 2), Staff Petition for Review of LBP-10-20 (Tentative)

This meeting will be webcast live at the Web address— http://www.nrc.gov.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by e-mail at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov. /RA/

Dated: September 20, 2011.
Rochelle C. Bavol,
Policy Coordinator, Office of the Secretary.

[FR Doc. 2011-24606 Filed 9-21-11; 11:15 am]

BILLING CODE 7590-01-P